DEPARTMENT OF COMMERCE

National Oceanic and Atmospheric Administration

[I.D. 022900C]

Atlantic Sea Scallop Fishery Management Plan Framework Adjustment 13; Proposed Information Collection; Request for Comments

AGENCY: National Marine Fisheries Service (NMFS), National Oceanic and Atmospheric Administration (NOAA), Commerce.

ACTION: Proposed Collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 2, 2000.

ADDRESSES: Direct all written comments to Linda Engelmeier, Departmental Forms Clearance Officer, Department of Commerce, Room 5327, 14th and Constitution Avenue NW, Washington DC 20230 (or via Internet at LEngelme@doc.gov).

FOR FURTHER INFORMATION CONTACT: Requests for additional information or copies of the information collection instrument(s) and instructions should be directed to David M. Gouveia, NMFS, 1 Blackburn Drive, Gloucester, MA 01930, 978-281-9280.

SUPPLEMENTARY INFORMATION:

I. Abstract

The regulations implementing Framework Adjustment 11 to the Atlantic Sea Scallop Fishery Management Plan (FMP) established the Georges Bank Sea Scallop Exemption Program (SEP), which provided vessels permitted in the limited access scallop program short-term access to the groundfish closed area on Georges Bank. The Vessel Monitoring System (VMS) was considered to be one of the major tools for monitoring and enforcing the regulations pertaining to the SEP. Vessels participating in the SEP were required to use a VMS unit for the purposes of monitoring Days-At-Sea under the scallop regulations. This submission requests comments on similar collection-of-information requirements, as well as new requirements, for the proposed Framework Adjustment 13 to the Atlantic Sea Scallop FMP. The collection-of-information requirements are: (1) monthly reporting of intention to fish in the SEP through the VMS e-mail; (2) daily reporting of scallops kept, Fishing Vessel Trip Report log page, and, for observed trips, scallops kept and yellowtail flounder caught on observed tows through the VMS e-mail messaging system for vessels fishing in the SEP; (3) installation of a VMS unit on occasional and general category vessels; (4) notice requirements for observer deployment; (5) documentation of installation of a VMS unit; (6) declaration into the SEP through the VMS prior to leaving the dock; (7) an increase in the polling frequency of the VMS from once every hour to once every thirty minutes; (8) requirements for research proposals utilizing a research set-aside in the allocations; and (9) requirements for final reports from research conducted with the research set-aside.

II. Method of Collection

A combination of reporting methods will be involved, including forms, e-mail communications, phone calls, and automatic electronic transmissions.

III. Data

OMB Number: None

Form Number: None

Type of Review: Regular submission

Affected public: Business and other for-profit

Estimated Number of Respondents: 408

Estimated Time Per Response: 2 minutes for a monthly e-mail notifications of intent to fish in the SEP; 10 minutes for an e-mail messaging of catch; 1 hour for the installation of a VMS unit; 2 minutes for a notification for purposes of observer deployment, 5 minutes for submitting proof of VMS installation; 2 minutes for declaring into the SEP through the VMS prior to leaving the dock; 30 seconds for each additional automated VMS report; 56 hours for a research proposal; and 440 hours for a final report from research conducted with research set-asides.

Estimated Total Annual Burden Hours: 10,474

Estimated Total Annual Cost to Public: $593,422

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and /or included in the request for OMB approval of this information collection; they also will become a matter of public record.

Dated: February 25, 2000.
Linda Engelmeier,
Departmental Forms Clearance Officer, Office of Chief Information Officer.

[FR Doc. 00-5222 Filed 3-2-00; 8:45 am]

BILLING CODE 3510-22-F